DEPARTMENT OF ENERGY

Federal Energy Regulatory Commission

Combined Notice of Filings

Take notice that the Commission has received the following Natural Gas Pipeline Rate and Refund Report filings:

Filings Instituting Proceedings

Docket Numbers: CP07-44-009.

Applicants: Southeast Supply Header, LLC.

Description: Abbreviated Application for Amendment to Certificate of Public Convenience and Necessity and Request for Expedited Treatment of Southeast Supply Header, LLC, et al.

Filed Date: 5/17/18.

Accession Number: 20180517-5068.

Comments Due: 5 p.m. ET 5/31/18.

Docket Numbers: RP18-820-000.

Applicants: Rockies Express Pipeline LLC.

Description: Penalty Charge Reconciliation Filing of Rockies Express Pipeline LLC.

Filed Date: 5/15/18.

Accession Number: 20180515-5385.

Comments Due: 5 p.m. ET 5/29/18.

Docket Numbers: RP18-821-000.

Applicants: Transcontinental Gas Pipe Line Company.

Description: § 4(d) Rate Filing—List of Non-Conforming Service Agreements (Dalton_Cartersville refile) to be effective 6/1/2018.

Filed Date: 5/17/18.

Accession Number: 20180517-5035.

Comments Due: 5 p.m. ET 5/29/18.

Docket Numbers: RP18-822-000.

Applicants: Kern River Gas Transmission Company.

Description: § 4(d) Rate Filing: 2018 Westport Delivery Meter to be effective 6/16/2018.

Filed Date: 5/17/18.

Accession Number: 20180517-5037.

Comments Due: 5 p.m. ET 5/29/18.

Docket Numbers: RP18-823-000.

Applicants: Spire Storage West LLC.

Description: Compliance filing Notice of Non-Material Change in Circumstances (Compliance Dkt. No. CP11-24).

Filed Date: 5/17/18.

Accession Number: 20180517-5053.

Comments Due: 5 p.m. ET 5/29/18.

Docket Numbers: RP18-824-000.

Applicants: Spire Storage West LLC.

Description: § 4(d) Rate Filing: Name Change Tariff Filing to be effective 6/18/2018.

Filed Date: 5/17/18.

Accession Number: 20180517-5100.

Comments Due: 5 p.m. ET 5/29/18.

Docket Numbers: RP18-825-000.

Applicants: Enable Gas Transmission, LLC.

Description: § 4(d) Rate Filing: Negotiated Rate Filing—May 2018 CERC 1001019 & 1007980 to be effective 5/17/2018.

Filed Date: 5/17/18.

Accession Number: 20180517-5124.

Comments Due: 5 p.m. ET 5/29/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 18, 2018.
Nathaniel J. Davis, Sr.,
Deputy Secretary.

[FR Doc. 2018-11139 Filed 5-23-18; 8:45 am]

BILLING CODE 6717-01-P